DEPARTMENT OF TRANSPORTATION

National Highway Traffic Safety Administration

[Docket No. NHTSA-2006-26555]

The New Car Assessment Program; Suggested Approaches for Enhancements

AGENCY: The National Highway Traffic Safety Administration (NHTSA), Department of Transportation (DOT).

ACTION: Request for comments; Notice of public hearing.

SUMMARY: This notice announces that the National Highway Traffic Safety Administration (NHTSA) is holding a public hearing and is seeking comment on a report titled, “The New Car Assessment Program Suggested Approaches for Future Program Enhancements.” The report, published by NHTSA, outlines both near and long-term approaches that the agency is considering to further enhance its New Car Assessment Program (NCAP) crashworthiness and crash avoidance activities to encourage additional safety improvements, and to provide consumers with relevant information that will aid them in their new vehicle purchasing decisions. NHTSA's objective with these approaches is to improve not only overall vehicle safety but the quality of the information that it provides to consumers, especially with the emergence of advanced technologies. This notice requests comments on the possible approaches contained in the report and any additional actions that could be taken to improve motor vehicle safety information for consumers. Additionally, this notice announces the agency's intent to hold a public hearing on its suggested approaches for enhancing the program.

DATES: Comments: Comments must be received no later than April 10, 2007.

Public Hearing: The public hearing will be held on March 7, 2007, from 9 a.m. to 4 p.m. at the United States Department of Transportation (Nassif Building), 400 Seventh Street, SW., Washington, DC 20590; room numbers 2230-2232. Those wishing to participate should contact Mr. Anthony Whitson no later than February 21, 2007.

The NHTSA recommends that all visitors arrive at least 45 minutes early in order to facilitate entry into the building. Visitors to the building should enter through the Southwest Lobby to be escorted to the hearing room.

The NHTSA will provide auxiliary aids (sign language interpreter, telecommunications devices for the deaf (TDDs), readers, taped tests, braille materials, or large print materials, and magnifying devices). Visitors requiring these aids should contact Mrs. Gwen Archer-Pailen at 202-366-1740, by February 21, 2007.

FOR FURTHER INFORMATION CONTACT: Mr. Anthony Whitson, NVS-111, Office of Rulemaking, National Highway Traffic Safety Administration, 400 Seventh Street, SW., Washington, DC 20590. Mr. Whitson can be reached by phone at (202) 366-1740, by facsimile at (202) 493-2739, or by e-mail at anthony.whitson@dot.gov.

ADDRESSES: Report: The report is available on the Internet for viewing on line in PDF format in the Department of Transportation public docket number 26555 at http://dms.dot.gov. You may also obtain copies of the reports free of charge by sending a self-addressed mailing label to Mr. Anthony Whitson (NVS-111), The National Highway Traffic Safety Administration, 400 Seventh Street, SW., Washington, DC 20590.

Comments: You may submit comments [identified by DOT DMS Docket Number NHTSA-2006-26555] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

You may call Docket Management at 202-366-9324 and visit the Docket from 10 a.m. to 5 p.m., Monday through Friday.

SUPPLEMENTARY INFORMATION: The National Highway Traffic Safety Administration (NHTSA) established the New Car Assessment Program (NCAP) in 1978 in response to Title II of the Motor Vehicle Information and Cost Savings Act of 1972. The program strives to provide consumers with timely, meaningful, comparative safety information that will assist them in making informed vehicle purchasing decisions. As a result, NHTSA is able to provide an incentive for manufacturers to voluntarily implement vehicle design changes to improve safety performance.

The success of NCAP can be attributed to several activities: (1) The assignment of safety ratings to vehicles based on crashworthiness performance in frontal and side impact crash tests, and crash avoidance performance in rollover resistance testing, (2) the assignment of ease-of-use ratings to child restraints, (3) the inclusion of safety features for vehicle models, and (4) the distribution of safety ratings and safety features to consumers through the Internet and the program's “Buying a Safer Car Guide” and “Buying a Safer Car Guide for Child Passengers.”

However, the continued success of the NCAP requires changes to be made in the program. The NHTSA recognizes that consumer demand has driven more manufacturers to design vehicles and child restraints that achieve the highest NCAP ratings, and consequently most vehicles and child restraints receive the highest ratings. Similarly, with regards to vehicle safety, recent developments in the area of crash avoidance technologies, amendments and proposed amendments to several Federal safety standards, and the need to continue enhancing the presentation of NCAP safety ratings to consumers have prompted the need for a comprehensive review of all NCAP activities so that the program continues to fully achieve its goals.

In analyzing what enhancements to make to NCAP, the agency must first consider the program's guiding principles. The agency believes that for NCAP to remain effective, new approaches should only be considered if there is data that can be used to measure/assess that an approach is likely to provide significant safety benefits. Additional considerations include whether or not the change would:

1. Result in safety benefits that are evident but for which a regulation may not be the best approach;

2. Distinguish meaningful performance differences between vehicles;

3. Spur research and the achievement of safety goals that exceed regulatory requirements; and

4. Stimulate the use and dissemination of information so that it is more widely used.

Below, are summarized approaches from the technical report contained in Docket number 26555. These approaches represent how the agency believes it can continue to enhance its NCAP activities. These approaches take into account all of the aforementioned factors and provide a basis for initiating stakeholder dialogue for enhancing the NCAP.

Approaches To Enhancing Frontal NCAP

Data from the National Automotive Sampling System (NASS) indicates that most injuries in frontal crashes occur in full-frontal and offset-frontal crashes. Additionally, when restricted to full-frontal crashes with adult (16- to 60-year-old) front seat-belted occupants, the maximum number of injuries occurs at changes in velocities from 0 to 25 miles per hour. Within this grouping, the de-habilitating and costly knee/thigh/hip (KTH) and lower leg regions have the highest incidence of the Abbreviated Injury Scale (AIS) 2+ injuries. Neither of these regions is currently rated by NCAP.

In Model Year (MY) 2006, approximately 95 percent of new vehicles achieved a four or five star rating for the driver. A five-star rating in the frontal NCAP test accounts for a combined risk of head and chest injury of 10 percent, and at this risk level current head and chest Injury Assessment Reference Values (IARVs) are not likely to further reduce high-speed or low-speed injury numbers. The statistical data analysis discussed above indicates that future tests should focus on full-frontal crashes, front seat occupants, lower speeds, 16- to 60-year-old adults, and incorporate additional body regions like the hips and legs. Although these body regions are currently measured during testing, they are currently not included in the rating. By including them, there may be opportunity to use the existing test for potential safety improvements.

The report discusses three approaches the agency is considering:

(1) Maintain the current test protocol but add femur readings to the rating to begin addressing KTH injuries.

(2) Determine whether injury measures obtained below the knee are predictive of real world injury. If they are, and the readings from the dummy would result in a meaningful improvement to safety, they could also be added to the rating, and

(3) Evaluate lower speed test(s). The research would determine whether current IARVs need to be adjusted or created, and to assess the ability of a test device and test procedure to accurately measure those injury assessment values.

Approaches To Enhancing Side NCAP

NASS data indicates that the majority of side impact crashes with serious (AIS 3+) injuries involve the primary vehicle being impacted in the side by light trucks or cars and that approximately 82 percent of all serious injuries to occupants result from subject vehicles being hit by passenger cars or light trucks. The impact conditions for Side NCAP were developed more than 20 years ago. The conditions represent side impacts resulting in serious injuries of occupants being struck by a vehicle with the weight properties of an early 1980's passenger car and the stiffness properties of 1980's era light truck.

The vehicle fleet has changed significantly over the past 20 years and similar to frontal NCAP, 87 percent of MY '06 vehicles receive four or five stars. Consequently, the side NCAP ratings are reaching the point of providing little discrimination between vehicles. Additionally, since the fleet and impact conditions for side impacts have changed over the years, and since side impact head and other side impact occupant protection systems have improved over the years, it is necessary to revisit the design of the test in an effort to continue improving the safety in side impact crashes.

The report discusses two approaches the agency is considering:

(1) Encourage more manufactures to include head protection by including the pole test proposed for Federal Motor Vehicle Safety Standard (FMVSS) No. 214 prior to the final rule being fully phased-in. This test would continue to measure performance while at the same time indicate to consumers the importance of good head protection devices, and

(2) Perform research that focuses on the assessment of the injury mechanisms in a fully equipped side impact air bag fleet. The purpose would be to evaluate how serious injuries occur in the new fleet and develop test procedures to reflect these impact conditions. The outcome of this research could be used to further improve the level of side impact protection through modification to the side NCAP test procedures.

Approaches To Enhancing Rollover NCAP

Although the proportion of crashes that result in rollover is low, these crashes seriously injure and kill about 35,000 vehicle occupants annually. NCAP rollover resistance ratings predict the risk of rollover in the event of a single-vehicle crash. Estimates from the NASS indicate that 88 percent of the single-vehicle rollover crashes occur after the vehicle leaves the roadway and are often referred to as “tripped rollovers.” Part of NCAP's rating is based on a geometric measurement called the Static Stability Factor (SSF). The SSF is highly predictive of these “tripped rollovers.”

The NHTSA estimates that its proposal to require Electronic Stability Control (ESC) on all passenger vehicles by 2012 will result in a significant reduction in run-off-road crashes. Most of the anticipated rollover reduction from ESC is not a consequence of ESC increasing rollover resistance. Rather, it is a consequence of ESC preventing a large number of single-vehicle loss-of-control crashes in which the vehicle leaves the roadway, and subsequently, is exposed to soft soil, ditches and other conditions that cause tripped rollovers (which comprise about 95 percent of all rollover crashes). None of the sport utility vehicles (SUVs) with ESC rated by NCAP has tipped up in the dynamic test that assesses the vulnerability of a vehicle to an untripped, on-road rollover. This effect of ESC shows improved rollover resistance scores for SUVs. Finally, ESC could reduce the rollover rate of those run-off-the-road crashes that still occur if it reduces the speed prior to the crash. When enough real world data with ESC vehicles has been accumulated, a need may exist to update the statistical risk model for ESC vehicles used to predict their rollover rates (and compute star ratings).

The report discusses one approach the agency is considering:

(1) Track the rollover rate and the single vehicle crash rate of ESC vehicles to create a new rollover risk model of the rollover rate of ESC vehicles and SSF. When sufficient data is available, it would then be possible to determine whether the current model is accurate for ESC vehicles or whether ESC reduces rollover risk more than currently predicted.

Approaches To Enhancing NCAP Information on Rear Impacts

Currently NHTSA provides no consumer information on rear impacts and although NHTSA has recently upgraded FMVSS No. 202 “Head Restraints” to address neck injuries, the real world data indicates that other injuries are occurring in rear impact collisions. Additionally, consumer research has indicated that consumers are concerned about rear impact crashes.

The report discusses two approaches the agency is considering:

(1) Explore providing consumers with basic information concerning rear impact crashes such as safe driving behavior and proper adjustment of head restraints, real world safety data by vehicle classes, and links to the Insurance Institute for Highway Safety (IIHS) rear impact test results.

(2) Longer term, a dynamic test that addresses those injuries not covered by the agency's current standards could be investigated and incorporated into a ratings program.

Approaches To Enhancing NCAP Information on Crash Avoidance Technologies

Various crash avoidance technologies have been developed and are beginning to be offered in the current vehicle fleet. Some of these technologies have shown effectiveness in reducing the number of relevant crashes in NHTSA-sponsored field operational tests. Prevention (in the sense of avoiding the crash) and severity reduction are not currently included in the NCAP safety ratings, and since a vehicle that is less likely to crash is safer for its occupants, NHTSA believes crash avoidance is one area in which NCAP could be used to improve safety by addressing beneficial crash avoidance technologies.

The report discusses three approaches the agency is considering:

(1) The agency could begin promoting three priority crash avoidance safety technologies that have been identified based on technical maturity, fleet availability, and available benefits data. These three technologies are stability control, lane departure avoidance, and rear-end/forward collision avoidance. The agency could highlight to consumers whether or not the vehicles have the technology.

(2) The agency also plans to investigate the feasibility of developing a separate crash avoidance rating that would provide a technology rating. Under this approach, there are two options.

a. One option would be to develop a simple cumulative rating. For example and illustrative purposes only, if there were an A, B, C letter grade rating and a vehicle had only one technology, it would receive a C whereas another vehicle that had all three recommended technologies would receive an A.

b. A second option would be to develop a rating that would take into account the target population and anticipated effectiveness of the technology to decide whether a particular type of technology would be given more importance over another and thus prompt a higher rating. For example, if ESC was considered more effective and more beneficial than lane departure, a vehicle equipped only with ESC could get a B versus a vehicle equipped only with lane departure which would get a C rating.

(3) As the technologies evolve and as the agency develops (through its research) more information related to their safety potential, a safety score (i.e. star rating) on individual technologies could then be developed. These scores would apply to technologies whose safety effectiveness had been sufficiently validated through research, field testing or on-road experience. The agency would need to ensure that it had sufficient data and that there were meaningful distinctions between different types of the same technology. After such an analysis, a set of performance tests could be developed that would be able to distinguish a range of performance.

Approaches To Enhancing the Presentation and Dissemination of NCAP Information

Combined Safety Score

Several NHTSA sponsored research reports and consumer surveys, as well as a Government Accountability Office and a National Academy of Sciences review of NCAP, have all pointed to the need for an NCAP summary safety rating. Similarly, other consumer information programs around the world such as the IIHS, Japan NCAP, and Euro NCAP have developed summary ratings that combine their respective crashworthiness tests. The agency would focus first on combining the frontal and side crashworthiness ratings using weighting factors compiled from NASS data. This method would combine the frontal ratings for driver and right front passenger seating positions with the side ratings for the front and rear passenger seating positions into one crashworthiness rating and leave NHTSA's current rollover rating separate. The following summary crashworthiness rating concepts are illustrative examples for combining vehicle crash information. Two approaches being considered are presented below.

(1) The overall frontal crash rating would combine the driver and right front passenger into a single star rating by averaging the two seating positions together. The same would be done for the dummies in the side crash to compute the overall side crash rating. To compute the overall crashworthiness rating, the overall frontal and the overall side impact performance would be combined by using weighting factors obtained from the NASS. Each individual total (overall front and overall side) would be weighted by that crash mode's contribution to the total fatalities occurring in the real world.

(2) For each individual crash mode (front and side), this method would normalize each IARV that NHTSA included in the rating by established IARVs for that dummy, body region, and crash mode. Using the NASS data, these normalized values would then be multiplied by the occurrence of that injury in the real world. Body injury regions that are coded by NASS but are not measured by the dummy and or not selected by NHTSA for inclusion in the rating would be equally distributed among the remaining body regions.

Presentation of Safety Information

As consumers' use of the World Wide Web for vehicle safety information has grown, so has the need to consolidate and better present NCAP vehicle safety information to consumers on www.safercar.gov.

The report discusses four approaches the agency is considering:

(1) Developing other topical areas under www.safercar.gov;

(2) Redesigning the Web site to improve organization;

(3) Improving the search capabilities on the Web site; and

(4) Combining agency recall and ratings database information.

Specific Requests for Written or Public Comments

When commenting on the agency report, we request that consideration also be given to the following questions:

(1) In addition to or rather than the advanced crash avoidance technologies we have identified, are there others with significant safety benefit potential that we should consider? What are they and what studies have been done to estimate the potential safety benefits?

(2) Are there other approaches the agency should consider in selecting and rating advanced technologies? What are the advantages of these alternative approaches?

(3) Identify those cases where you believe a particular approach to enhancing the NCAP and/or NHTSA's planned consumer information activities to address the approach are inappropriate. Discuss the basis for your position. In particular, if you believe a particular approach is inappropriate, discuss what you believe is a more appropriate approach.

(4) Are there other injury criteria, tests, and test devices we should consider? If so, describe how they would improve real world crash safety. Are there reasons why the agency should not pursue the use of injury criteria, tests, and test devices prior to incorporation into a Federal standard?

(5) An overall vehicle safety rating could allow the agency to combine new tests, crash avoidance technologies, items not reflected by the testing protocols into a single metric, and vehicle weight for across class comparisons. However, doing so might mask certain results and also lead to discontinuity in the ratings as technologies are added and removed and or new tests are added. Similarly star ratings from year to year might not be comparable. What are the disadvantages and advantages for combining all crashworthiness and crash avoidance ratings into a single metric? Is discontinuity in ratings important to consumers?

(6) In September 2007, all new vehicles will be required to display the NCAP ratings at the point of sale. It is anticipated that these new safety labels will undoubtedly raise the awareness of NCAP results. In light of this new labeling requirement, are there other activities the agency should be undertaking to raise awareness of NCAP and its safety information?

How can I influence NHTSA's thinking on this subject?

NHTSA welcomes public review of the technical report and invites reviewers to submit written comments so that the agency can consider these in its deliberations on what changes to make to NCAP.

Additionally, NHTSA will hold a public hearing on the report to provide interested parties an opportunity to express their views on the future of NCAP. Through this hearing and from the written comments, the agency will refine its approach to enhancing NCAP. We will consider the information and the views expressed at the public hearing and in the subsequent docket comments in making final decisions to enhance NCAP activities. All interested persons and organizations are invited to attend.

To assist the agency in planning for the hearing, members of the public must request the opportunity to make an oral presentation by contacting Mr. Anthony Whitson at the address or numbers mentioned at the beginning of this document. Those making a presentation will be provided 10 minutes to speak, followed by the opportunity for NHTSA officials to ask questions. Requests for oral presentations and the oral statements themselves should be received no later than February 21, 2007.

How do I prepare and submit comments?

Your comments must be written and in English. To ensure that your comments are correctly filed in the Docket, please include the Docket number of this document (NHTSA-2005-20132) in your comments.

Your primary comments must not be more than 15 pages long (49 CFR 553.21). However, you may attach additional documents to your primary comments. There is no limit on the length of the attachments.

Please send two paper copies of your comments to Docket Management, submit them electronically, fax them, or use the Federal eRulemaking Portal. The mailing address is U. S. Department of Transportation Docket Management, Room PL-401, 400 Seventh Street, SW., Washington, DC 20590. If you submit your comments electronically, log onto the Dockets Management System Web site at http://dms.dot.gov and click on “Help” to obtain instructions. The fax number is 1-202-493-2251. To use the Federal eRulemaking Portal, go to http://www.regulations.gov and follow the online instructions for submitting comments.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR Part 512).

In addition, send two copies from which you have deleted the claimed confidential business information to Docket Management, Room PL-401, 400 Seventh Street, SW., Washington, DC 20590, or submit them electronically.

Will the agency consider late comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How can I read the comments submitted by other people?

You may read the comments by visiting Docket Management in person at Room PL-401, 400 Seventh Street, SW., Washington, DC from 10 a.m. to 5 p.m., Monday through Friday.

You may also see the comments on the Internet by taking the following steps:

A. Go to the Docket Management System (DMS) Web page of the Department of Transportation (http://dms.dot.gov).

B. On that page, click on “Simple Search.”

C. On the next page (http://dms.dot.gov/search/searchFormSimple.cfm/) type in the five-digit Docket number shown at the beginning of this Notice (20132). Click on “Search.”

D. On the next page, which contains Docket summary information for the Docket you selected, click on the desired comments. You may also download the comments.

Authority: 49 U.S.C. 30111, 30168; delegation of authority at 49 CFR 1.50 and 501.8.

Dated: January 18, 2007.
Nicole R. Nason,
Administrator.

[FR Doc. E7-1130 Filed 1-24-07; 8:45 am]

BILLING CODE 4910-59-P